DEPARTMENT OF VETERANS AFFAIRS

Health Services Research and Development Service, Scientific Merit Review Board, Notice of Meeting

The Department of Veterans Affairs (VA) gives notice under the Federal Advisory Committee Act, 5 U.S.C. App. 2, that the Health Services Research and Development Service Scientific Merit Review Board will conduct in-person and teleconference meetings of its seven Health Services Research (HSR) subcommittees from 8:00 a.m. to approximately 5:00 p.m. (unless otherwise listed) on the dates indicated below, and at the VHA National Conference Center in Arlington, Virginia:

• HSR 1—Health Care and Clinical Management on March 4-5, 2014;

• HSR 2—Behavioral, Social, and Cultural Determinants of Health and Care on March 4-5, 2014;

• HSR 4—Mental and Behavioral Health on March 4-5, 2014;

• HSR 5—Health Care System Organization and Delivery; Research Methods and Models on March 4-5, 2014;

• Nursing Research Initiative (NRI) from 8:00 a.m. to 12:00 p.m. on Thursday, March 6, 2014;

• HSR 6—Post-acute and Long-term Care on Thursday, March 6, 2014;

• HSR 3—Healthcare Informatics on Friday, March 7, 2014; and

• HSR 7—Aging and Diminished Capacity in the Context of Aging on Friday, March 7, 2014.

The purpose of the Board is to review health services research and development applications involving the measurement and evaluation of health care services, the testing of new methods of health care delivery and management, and nursing research. Applications are reviewed for scientific and technical merit, mission relevance, and the protection of human and animal subjects. Recommendations regarding funding are submitted to the Chief Research and Development Officer.

Each subcommittee meeting of the Board will be open to the public the first day for approximately one-half hour at the start of the meeting on March 4 (HSRs 1, 2, 4, and 5), on March 6 (NRI and HSR 6), and on March 7 (HSRs 3 and 7), to cover administrative matters and to discuss the general status of the program. Because the meeting will be in a Government building, anyone attending must be prepared to show a valid photo ID for checking in. Please allow 15 minutes before the meeting begins for this process.

The remaining portion of each subcommittee meeting will be closed for the discussion, examination, reference to, and oral review of the intramural research proposals and critiques. During the closed portion of each subcommittee meeting, discussion and recommendations will include qualifications of the personnel conducting the studies (the disclosure of which would constitute a clearly unwarranted invasion of personal privacy), as well as research information (the premature disclosure of which would likely compromise significantly the implementation of proposed agency action regarding such research projects). As provided by subsection 10(d) of Public Law 92-463, as amended by Public Law 94-409, closing the meeting is in accordance with 5 U.S.C. 552b(c)(6) and (9)(B).

No oral or written comments will be accepted from the public for either portion of the meetings. Those who plan to participate during the open portion of a subcommittee meeting should contact Faith Booker, Alternate Designated Federal Officer, Scientific Merit Review Board, Department of Veterans Affairs, Health Services Research and Development Service (10P9H), 810 Vermont Avenue NW., Washington, DC 20420, or by email at Faith.Booker@va.gov. For further information, please call Mrs. Booker at (202) 443-5714.

Rebecca Schiller,
Advisory Committee Management Officer.

[FR Doc. 2014-03184 Filed 2-12-14; 8:45 am]

BILLING CODE 8320-01-P